ENVIRONMENTAL PROTECTION AGENCY

[EPA-HQ-OPP-2024-0058; FRL-11681-03-OCSPP]

Pesticide Product Registration; Receipt of Applications for New Active Ingredients March 2024

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before June 3, 2024.

ADDRESSES: Submit your comments, identified by docket identification (ID) number EPA-HQ-OPP-2024-0058, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Madison H. Le, Biopesticides and Pollution Prevention Division (BPPD) (7511M), main telephone number: (202) 566-1400, email address: BPPDFRNotices@epa.gov. The mailing address is Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

A. Notice of Receipt—New Active Ingredients

File Symbol: 524-AAA. Docket ID number: EPA-HQ-OPP-2024-0138. Applicant: Bayer CropScience, LP, 800 North Lindbergh Blvd., St. Louis, MO 63167. Product name: MON 95275. Active ingredient: Brevibacillus laterosporus Mpp75Aa1.1 protein and the genetic material (vector PVZMIR525664) necessary for its production in corn event MON 95275; Bacillus thuringiensis Vpb4Da2 protein and the genetic material (vector PV-ZMIR525664) necessary for its production in corn event MON 95275; and dsRNA transcript comprising a DvSnf7.1 inverted repeat sequence derived from Diabrotica virgifera, and the genetic material (vector PV-ZMIR525664) necessary for its production in corn event MON 95275 Proposed use: Plant-incorporated protectant. Contact: BPPD.

File Symbol: 93167-E. Docket ID number: EPA-HQ-OPP-2024-0133. Applicant: Oxitec Ltd. 71, Innovation Drive, Milton Park, Abingdon, Oxfordshire OX14 4RQ, United Kingdom. Product name: FriendlyTM Aedes aegypti. Active ingredient: Tetracycline Trans-Activator Variant (tTAV-OX5034) protein and the genetic material (from vector pOX5034) necessary to produce the protein in vivo. Proposed use: Insecticide. Contact: BPPD.

File Symbol: 93350-U. Docket ID number: EPA-HQ-OPP-2024-0125. Applicant: Lepidext, Inc. 1122 Oak Hill Drive, Suite 150, Lexington, KY 40505. Product name: InsterusHZ Moths. Active ingredient: Helicoverpa zea nudivirus 2 isolate 90DR71 at 0.0000015%. Proposed use: Insecticide. Contact: BPPD.

File Symbol: 71771-RA. Docket ID number: EPA-HQ-OPP-2024-0136. Applicant: Plant Health Care, Inc. 242 South Main Street, Suite 216, Holly Springs, NC 27540. Product name: PHC 68949. Active ingredient: PDHP 68949 at 1 percent. Proposed use: Nematicide/plant growth regulator. Contact: BPPD.

Authority: 7 U.S.C. 136 et seq.

Dated: April 29, 2024.
Kimberly Smith,
Acting Director, Information Technology and Resources Management Division, Office of Program Support.

[FR Doc. 2024-09692 Filed 5-2-24; 8:45 am]

BILLING CODE 6560-50-P